DEPARTMENT OF JUSTICE

Notice of Lodging of Consent Decree Under the Clean Water Act and the Comprehensive Environmental Response, Compensation, and Liability Act (“CERCLA”)

Notice is hereby given that on March 8, 2010, a proposed consent decree (“proposed Decree”) in United States v. Norfolk Southern Railway Co., Civil Action No. 1:08-cv-01707, was lodged with the United States District Court for the District of South Carolina, Aiken Division.

In this action under Sections 301 and 311 of the Clean Water Act, 33 U.S.C. 1311 and 1321, and Section 301(a) of the Comprehensive Environmental Response, Compensation, and Liability Act, 42 U.S.C. 9603(a) (“CERCLA”), the United States sought penalties and injunctive relief for releases of chlorine and diesel fuel following the January 6, 2005 derailment of the defendant's train in Graniteville, South Carolina, which resulted in the death of nine people, evacuation of the surrounding community, and environmental injury including the death of hundreds of fish in nearby waters. The proposed Decree requires the defendant to pay $4 million to the United States as a civil penalty, provide enhanced emergency response training to certain employees, restock impacted waters with fish, and post the number for the National Response Center's incident report hotline in the office of its General Superintendent of Transportation. In addition, the proposed Decree requires the defendant to conduct a Supplemental Environmental Project (“SEP”) designed to control erosion and improve water quality in impacted waters. The proposed Decree provides the defendant with a covenant not to sue for the allegations contained in the United States' amended complaint.

The Department of Justice will receive for a period of thirty (30) days from the date of this publication comments relating to the proposed Decree. Comments should be addressed to the Assistant Attorney General, Environment and Natural Resources Division, and either e-mailed to pubcomment-ees.enrd@usdoj.gov or mailed to P.O. Box 7611, U.S. Department of Justice, Washington, DC 20044-7611, and should refer to United States v. Norfolk Southern Railway Co., D.J. Ref. 90-5-1-1-09024.

The proposed Decree may be examined at the Office of the United States Attorney for the District of South Carolina, 1441 Main Street, Suite 500, Columbia, S.C. 29201 and at U.S. EPA Region 4, 61 Forsythe Street, SW., Atlanta, GA 30303. During the public comment period, the proposed Decree may also be examined on the following Department of Justice Web site: http://www.usdoj.gov/enrd/Consent_Decrees.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.25 (25 cents per page reproduction cost) payable to the U.S. Treasury or, if by email or fax, forward a check in that amount to the Consent Decree Library at the stated address.

Maureen Katz,
Assistant Chief, Environmental Enforcement Section, Environment and Natural Resources Division.

[FR Doc. 2010-5276 Filed 3-11-10; 8:45 am]

BILLING CODE 4410-15-P